DEPARTMENT OF THE INTERIOR

Bureau of Land Management

[LLWO301000.L13400000.PQ0000.LXSIGEOT0000.15X]

Renewal of Approved Information Collection; Control Number 1004-0034

AGENCY: Bureau of Land Management, Interior.

ACTION: 60-Day notice and request for comments.

SUMMARY: In compliance with the Paperwork Reduction Act, the Bureau of Land Management (BLM) invites public comments on, and plans to request approval to continue, the collection of information about transfers and assignments of leases for oil, gas, and geothermal resources. The Office of Management and Budget (OMB) has assigned control number 1004-0034 to this information collection.

DATES: Please submit comments on the proposed information collection by March 9, 2015.

ADDRESSES: Comments may be submitted by mail, fax, or electronic mail. Mail: U.S. Department of the Interior, Bureau of Land Management, 1849 C Street NW., Room 2134LM, Attention: Jean Sonneman, Washington, DC 20240. Fax: to Jean Sonneman at 202-245-0050. Electronic mail: Jean_Sonneman@blm.gov. Please indicate “Attn: 1004-0034” regardless of the form of your comments.

FOR FURTHER INFORMATION CONTACT: Jennifer Spencer at 202-912-7146 (oil and gas) or Lorenzo Trimble at 775-861-6567 (geothermal resources). Persons who use a telecommunication device for the deaf may call the Federal Information Relay Service at 1-800-877-8339, to leave a message for Ms. Spencer or Mr. Trimble.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as the use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information pertains to this request:

Title: Oil, Gas, and Geothermal Resources: Transfers and Assignments.

OMB Control Number: 1004-0034.

Summary: When a holder of a Federal lease for oil, gas, or geothermal resources assigns the lease or transfers the operating rights, the BLM must collect information about that transaction. Each assignment or transfer is a contract between private parties but must be approved by the BLM under the relevant statutory authority.

Frequency of Collection: On occasion.

Forms:

• Form 3000-3, Assignment of Record Title Interest in a Lease for Oil and Gas or Geothermal Resources; and

• Form 3000-3a, Transfer of Operating Rights (Sublease) in a Lease for Oil and Gas or Geothermal Resources.

Description of Respondents: Lessees who want to assign record title interest or transfer operating rights in a Federal lease for oil and gas or geothermal resources.

Estimated Annual Responses: 14,041.

Estimated Annual Burden Hours: 7,020.5.

Estimated Annual Non-Hour Costs: $1,263,690.

The estimated annual burdens are itemized in the following table:

A. Type of response | B. Number of responses | C. Time per response | D. Total time (column B × column C)
Assignment of Record Title Interest/Oil and Gas Leases 43 CFR 3106.4-1 Form 3000-3 | 6,316 | 30 minutes | 3,158 hours
Assignment of Record Title Interest/Geothermal Resources 43 CFR 3216.14 Form 3000-3 | 28 | 30 minutes | 14 hours
Transfer of Operating Rights/Oil and Gas Leases 43 CFR 3106.4-1 Form 3000-3a | 7,696 | 30 minutes | 3,848 hours
Transfer of Operating Rights/Geothermal Resources 43 CFR 3216.14 Form 3000-3a | 1 | 30 minutes | 30 minutes
Totals | 14,041 |  | 7,020.5 hours

Jean Sonneman,
Bureau of Land Management, Information Collection Clearance Officer.

[FR Doc. 2015-00070 Filed 1-7-15; 8:45 am]

BILLING CODE 4310- 84-P